INTERNATIONAL TRADE COMMISSION

[Investigation Nos. 701-TA-654-655 and 731-TA-1530-1532 (Final)]

Seamless Carbon and Alloy Steel Standard, Line, and Pressure Pipe From Korea, Russia, and Ukraine; Scheduling of the Final Phase of the Anti-Dumping and Countervailing Duty Investigations

AGENCY: United States International Trade Commission.

ACTION: Notice.

DATES: July 2, 2021.

FOR FURTHER INFORMATION CONTACT: Lawrence Jones ((202) 205-3358), Office of Investigations, U.S. International Trade Commission, 500 E Street SW, Washington, DC 20436. Hearing-impaired persons can obtain information on this matter by contacting the Commission's TDD terminal on (202) 205-1810. Persons with mobility impairments who will need special assistance in gaining access to the Commission should contact the Office of the Secretary at (202) 205-2000. General information concerning the Commission may also be obtained by accessing its internet server (https://www.usitc.gov). The public record for these investigations may be viewed on the Commission's electronic docket (EDIS) at https://edis.usitc.gov.

SUPPLEMENTARY INFORMATION: Effective December 15, 2020, the Commission established a general schedule for the conduct of the final phase of its investigations on seamless carbon and alloy steel standard, line, and pressure pipe from Czechia, Korea, Russia, and Ukraine ¹ following preliminary determinations by the U.S. Department of Commerce (“Commerce”) that imports of seamless carbon and alloy steel standard, line, and pressure pipe from Korea and Russia were being subsidized by the governments of Korea and Russia and imports of seamless carbon and alloy steel standard, line, and pressure pipe from Czechia were being sold in the United States at less than fair value (“LTFV”).² Notice of the scheduling of the final phase of the Commission's investigations and of a public hearing to be held in connection therewith was given by posting copies of the notice in the Office of the Secretary, U.S. International Trade Commission, Washington, DC, and by publishing the notice in the Federal Register on December 31, 2020, (85 FR 86946). In light of the restrictions on access to the Commission building due to the COVID-19 pandemic, the Commission conducted its hearing through written testimony and video conference on March 4, 2021. All persons who requested the opportunity were permitted to appear in person or by counsel.

¹ 85 FR 86946, December 31, 2020.

² 85 FR 80024 and 85 FR 80007, December 11, 2020; 85 FR 83059, December 21, 2020.

The Commission subsequently issued its final determination that an industry in the United States was materially injured by reason of imports of seamless carbon and alloy steel standard, line, and pressure pipe from Czechia that Commerce had determined were sold at LTFV in the United States.³ On July 2, 2021, Commerce issued its final affirmative determinations that imports of seamless carbon and alloy steel standard, line, and pressure pipe from Korea, Russia, and Ukraine were being sold at LTFV in the United States and subsidized by the governments of Korea and Russia.⁴ Accordingly, the Commission currently is issuing a supplemental schedule for its antidumping and countervailing duty investigations on imports of seamless carbon and alloy steel standard, line, and pressure pipe from Korea, Russia, and Ukraine.

³ 86 FR 21763, April 23, 2021.

⁴ 86 FR 35263-35274, July 2, 2021.

This supplemental schedule is as follows: The deadline for filing supplemental party comments on Commerce's final antidumping and countervailing duty determinations is July 9, 2021. Supplemental party comments may address only Commerce's final antidumping and countervailing duty determinations regarding imports of seamless carbon and alloy steel standard, line, and pressure pipe from Korea, Russia, and Ukraine. These supplemental final comments may not contain new factual information and may not exceed five (5) pages in length. The supplemental staff report in the final phase of these investigations regarding subject imports from Korea, Russia, and Ukraine will be placed in the nonpublic record on July 23, 2021; and a public version will be issued thereafter.

For further information concerning these investigations see the Commission's notice cited above and the Commission's Rules of Practice and Procedure, part 201, subparts A and B (19 CFR part 201), and part 207, subparts A and C (19 CFR part 207).

Please note the Secretary's Office will accept only electronic filings during this time. Filings must be made through the Commission's Electronic Document Information System (EDIS, https://edis.usitc.gov.) No in-person paper-based filings or paper copies of any electronic filings will be accepted until further notice.

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

Authority: These investigations are being conducted under authority of title VII of the Tariff Act of 1930; this notice is published pursuant to section 207.21 of the Commission's rules.

By order of the Commission.
Issued: July 7, 2021.
Lisa Barton,
Secretary to the Commission.

[FR Doc. 2021-14809 Filed 7-12-21; 8:45 am]

BILLING CODE 7020-02-P